DEPARTMENT OF ENERGY

President's Council of Advisors on Science and Technology

AGENCY: Office of Science, Department of Energy.

ACTION: Notice of renewal.

SUMMARY: Pursuant to the Federal Advisory Committee Act, and Code of Federal Regulations, and following consultation with the Committee Management Secretariat, General Services Administration, notice is hereby given that the President's Council of Advisors on Science and Technology (PCAST) has been renewed for a two-year period.

FOR FURTHER INFORMATION CONTACT: Dr. Reba Bandyopadhyay, Designated Federal Officer, PCAST, email: PCAST@ostp.eop.gov; telephone: (202) 881-7163.

SUPPLEMENTARY INFORMATION: The Council will provide advice and recommendations to the President on science and technology.

Additionally, the Secretary of Energy has determined that renewal of the PCAST is essential to conduct business and is in the public interest in connection with the performance duties imposed by law upon the Department of Energy. The Council will continue to operate in accordance with the provisions of the Federal Advisory Committee Act, the Department of Energy Organization Act, and the rules and regulations in implementation of these acts.

Signing Authority: This document of the Department of Energy was signed on September 22, 2023, by Sarah E. Buter, Committee Management Officer, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 25, 2023.
Treena V. Garrett,
Federal Register Liaison Officer, U.S. Department of Energy.

[FR Doc. 2023-21182 Filed 9-27-23; 8:45 am]

BILLING CODE 6450-01-P